DEPARTMENT OF TRANSPORTATION

Federal Railroad Administration

[Docket Number FRA-2022-0010]

Petition for Waiver of Compliance

Under part 211 of title 49 Code of Federal Regulations (CFR), this document provides the public notice that on January 28, 2022, the Western Maryland Scenic Railroad (WMSX) petitioned the Federal Railroad Administration (FRA) for a waiver of compliance from certain provisions of the Federal railroad safety regulations contained at 49 CFR parts 215 (Railroad Freight Car Safety Standards) and 224 (Reflectorization of Rail Freight Rolling Stock). FRA assigned the petition Docket Number FRA-2022-0010.

Specifically, WMSX requested a special approval pursuant to 49 CFR 215.203, Restricted cars, for a total of 6 cars, comprised of 1 tank car (WMSX 8959) and 5 coal hopper cars (WMSX 806641, WMSX 823059, WMSX 823059, WMSX 834314, and WMSX 834623) that are or are approaching more than 50 years from the date of original construction. WMSX also requests relief from 49 CFR 215.303, Stenciling of restricted cars, and 224.101, General requirements. WMSX seeks to operate the cars as historic artifacts in conjunction with, but not on, tourist and excursion trains. In support of its request, WMSX states that the relief would enable the cars to maintain historic integrity and that the cars would not exceed 10 miles per hour and not be interchanged.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by April 4, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-03287 Filed 2-15-22; 8:45 am]

BILLING CODE 4910-06-P